DEPARTMENT OF TRANSPORTATION

Federal Aviation Administration

14 CFR Part 158

[Docket No. FAA-2006-23730; Amendment No. 158-4]

RIN 2120-AI68

Passenger Facility Charge Program, Debt Service, Air Carrier Bankruptcy, and Miscellaneous Changes

AGENCY: Federal Aviation Administration (FAA), DOT.

ACTION: Final rule; correction.

SUMMARY: When the FAA issued a final rule which amended FAA regulations dealing with the Passenger Facility Charge (PFC) program to add more eligible uses for revenue, protect such revenue in bankruptcy proceedings, and eliminate charges to passengers on military charters, we erroneously stated a paragraph reference in the regulatory text. This correction removes the erroneous paragraph reference and replaces it with the correct paragraph reference.

DATES: This correction is effective June 22, 2007.

FOR FURTHER INFORMATION CONTACT: For technical questions concerning this final rule, contact Sheryl Scarborough, Airports Financial Analysis and Passenger Facility Charge Branch, APP-510, Federal Aviation Administration, 800 Independence Avenue, SW., Washington, DC 20591; telephone: (202) 267-8825; facsimile: (202) 267-5302; e-mail: sheryl.scarborough@faa.gov. For legal questions concerning this final rule, contact Beth Weir, Airports Law Branch, AGC-610, Federal Aviation Administration, 800 Independence Avenue, SW., Washington, DC 20591; telephone (202) 267-5880; facsimile: (202) 267-5769; e-mail: beth.weir@faa.gov.

SUPPLEMENTARY INFORMATION:

On May 23, 2007, the FAA published the final rule, “Passenger Facility Charge Program, Debt Service, Air Carrier Bankruptcy, and Miscellaneous Changes.” (72 FR 28837) In it, we revised section 158.53 to incorporate procedures that were established for the FAA to periodically review and set the air carrier collection compensation level. Upon review of the regulatory text on page 28851, first line, of this final rule, we discovered an incorrect paragraph reference in Section 158.53. This correction removes the incorrect paragraph reference and inserts the correct paragraph reference.

Correction

PART 158—[AMENDED]

In final rule FR Doc. FAA-2006-23730, published on May 23, 2007 (72 FR 28837), make the following correction:

§ 158.53 [Corrected]

On page 28851, in the first column, line one, remove the phrase “paragraph (b)(2) of this section will” and add in its place paragraph (c)(2) of this section will”.

Issued in Washington, DC, on June 1, 2007.
Pamela Hamilton-Powell,
Director, Office of Rulemaking Aviation Safety.

[FR Doc. 07-2836 Filed 6-7-07; 8:45 am]

BILLING CODE 4910-13-M